ENVIRONMENTAL PROTECTION AGENCY

[FRL-6600-6]

Project XL Proposed Final Project Agreement: Georgia-Pacific Corporation Big Island, Virginia XL Project

AGENCY: Environmental Protection Agency (EPA).

ACTION: Notice of availability.

SUMMARY: EPA is requesting comments on a proposed Project XL Final Project Agreement (FPA) for the Georgia-Pacific Corporation Big Island, Virginia XL Project (hereafter “Georgia-Pacific”). The FPA is a voluntary agreement developed collaboratively by Georgia-Pacific, the Virginia Department of Environmental Quality (VADEQ), the USDA Forest Service (FS) and the EPA. Project XL, announced in the Federal Register on May 23, 1995 (60 FR 27282), gives regulated entities the flexibility to develop alternative strategies that will replace or modify specific regulatory or procedural requirements on the condition that they produce greater environmental benefits. EPA has set a goal of implementing fifty XL projects undertaken in full partnership with the states.

Georgia-Pacific Corporation owns and operates a non-sulfur, non-bleaching, semi-chemical pulp and paper mill in Big Island, Virginia (Mill). The Mill produces corrugated medium and liner board (the inside and outside components of cardboard) from hardwood pulp and secondary recycled fiber. The Mill is subject to the Pulp and Paper Mill Cluster Rule (a hazardous air pollution standard promulgated under the federal Clean Air Act (CAA)), which is based on installation of Maximum Achievable Control Technology (MACT) on regulated emission sources. A second MACT standard applicable to pulp and paper mills (MACT II), was proposed on April 15, 1998 to specifically address emissions from combustion sources associated with the recovery of pulping chemicals. At the Mill pulping liquor is added to hardwood chips, and the mixture is passed through digesters to produce the pulp. Currently the Mill takes the spent pulping or black liquor, reduces it through evaporation, and flame combusts the resultant concentrated liquor in two “smelters,” also called “recovery furnaces.” The smelters recover the sodium carbonate in a molten smelt that is then dissolved in water to produce new pulping liquor.

Due to the age and physical condition of the existing smelters at the Mill, to comply with MACT II Georgia-Pacific would have to substantially upgrade or rebuild these units and add additional emission control devices. Alternatively, they would need to replace the smelters with a new recovery boiler that uses conventional technology. Georgia-Pacific has investigated, and proposes to install, a third alternative for recovering pulping chemicals at its facility, using an innovative black liquor gasification system. Under this alternative, the concentrated black liquor would be pyrolyzed (thermal conversion of organic compounds) to liberate a combustible gas (primarily hydrogen), which in turn would be burned as an energy source to drive the pyrolysis and to produce steam to be used elsewhere in the Big Island facility. Sodium carbonate pellets would be recovered during this process for reuse in fresh pulping liquor.

Georgia-Pacific's proposed installation of a black liquor gasification system would be the first commercial application of this innovative gasification technology in the United States. Deployment of the proposed gasification technology promises reduced consumption of fossil fuel, increased efficiency in energy conversion and chemical recovery, elimination of the smelt-water explosion hazard (inherent to the operation of conventional recovery boilers), reduced maintenance costs, and significantly lower environmental emissions of criteria pollutants (particulate, sulfur dioxide, nitrogen oxides, volatile organic compounds precursors to ozone), carbon monoxide), hazardous air pollutants, and greenhouse gases. If Georgia-Pacific experiences no problems or delays in construction and testing of the gasification technology, Georgia-Pacific expects that its gasifier could be operational in time to meet the MACT II standards when they become effective. However, Georgia-Pacific is pursuing an XL Project for its Mill for the following reasons:

(1) to be able to operate the existing smelters past the otherwise applicable MACT II compliance date, if necessary, while the gasification system is brought on line and during a limited trial of the gasification system using black liquor from Kraft pulp mills;

(2) to assure that if the gasification system fails, Georgia-Pacific would be allowed to operate its existing smelters, as necessary, past the otherwise applicable MACT II compliance date while it constructs a conventional recovery boiler; and

(3) to allow the steam generated by the new process to be utilized elsewhere at the Mill.

This project does not include modifications to production areas of the Mill. This project is not intended to increase pulp or paper production. The new gasification system will be similar in capacity to the existing smelters. Due to the extensive nature of the stateholder process conducted by Georgia-Pacific on this project, the comment period will be 14 days.

DATES: The period for submission of comments ends on May 22, 2000.

ADDRESSEES: All comments on the proposed Final Project Agreement should be sent to: Steven Donohue, EPA Region III, 1650 Arch Street, Philadelphia, PA 19103-2029, or David Beck, Mail Drop 10 EPA Research Triangle Park, NC 27711. Comments may also be faxed to Mr. Donohue at (215) 814-2783 or to Mr. Beck at (919) 541-2464. Comments may also be received via electronic mail sent to: donohue.steve@epa.gov or beck.david@epa.gov.

FOR FURTHER INFORMATION CONTACT: To obtain a copy of the proposed Final Project Agreement or a Fact Sheet, contact: Steven Donohue, EPA Region III 1650 Arch Street, Philadelphia, Pennsylvania 19103-2029, or David Beck, Mail Drop 10 EPA Research Triangle Park, NC 27711. The FPA and related documents are also available via the Internet at the following location: http://www.epa.gov/ProjectXL. In addition, public files on the project, including the FPA, are located in the Big Island Public Library, 1111 Schooldays Road, Big Island, VA 24526 (804) 299-5604 and in the Amherst County Public Library, P.O. Box 370, Amherst, Virginia 24521 (804) 946-9388. Questions to EPA regarding the documents can be directed to Steven Donohue at (215) 814-3215 or David Beck at (919) 541-5421. To be included on the Georgia-Pacific Project XL mailing list for information about future public meetings, XL progress reports and other mailings from Georgia-Pacific on the XL project, contact Pat Moore, Georgia-Pacific Corporation, P.O. Box 40 Highway 501 North, Big Island, Virginia 24526 (804) 299-5911 ext. 286. For information on all other aspects of the XL Program contact Christopher Knopes at the following address: Office of Policy, Economics and Innovation, United States Environmental Protection Agency, 401 M Street, SW Room M3802 (Mail Code 1802), Washington, DC 20460. Additional information on Project XL, including documents referenced in this notice, other EPA policy documents related to Project XL, regional XL contacts, application information, and descriptions of existing XL projects and proposals, is available via the Internet at http://www.epa.gov/ProjectXL.

Dated: May 2, 2000.
Elizabeth A. Shaw,
Deputy Associate Administrator for Reinvention Programs.

[FR Doc. 00-11428 Filed 5-5-00; 8:45 am]

BILLING CODE 6560-50-P